FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011517-010.

Title: APL/HSDG/Lykes/Evergreen Vessel Sharing Agreement.

Parties: American President Lines Ltd.; APL Co, Pte Ltd.; Hamburg-Süd; Lykes Lines Limited, LLC; and Evergreen Marine Corp (Taiwan) Ltd.

Filing Party: Wayne R. Rohde, Esq.; Sher & Blackwell; 1850 M Street, NW., Suite 900; Washington, DC 20036.

Synopsis: The amendment revises the slot allocation of Evergreen.

Agreement No.: 011642-009.

Title: East Coast United States/East Coast of South America Vessel Sharing Agreement.

Parties: A.P. Moller-Maersk A/S; P&O Nedlloyd Limited; P&O Nedlloyd B.V.; Mercosul Line Navegacao e Logistica Ltda.; Alianca Navegacao e Logistica Ltda.; and Hamburg-Süd.

Filing Party: Wayne R. Rohde, Esq.; Sher & Blackwell; 1850 M Street, NW., Suite 900; Washington, DC 20036.

Synopsis: The amendment revises the slot allocations of the parties.

Agreement No.: 011888.

Title: APL/MOL 2004 Peak Season Space Charter Agreement.

Parties: American President Lines, Ltd.; APL Co. Pte Ltd.; and Mitsui O.S.K. Lines, Ltd.

Filing Party: David B. Cook, Esq.; Shea & Gardner; 1800 Massachusetts Avenue, NW., Washington, DC 20036-1872.

Synopsis: The agreement authorizes the parties to cooperate in providing a limited number of round-trip voyages during the 2004 peak season in the trade between ports in the State of Washington and China (including Hong Kong) and Taiwan. The parties requested expedited review.

By Order of the Federal Maritime Commission.
Dated: August 13, 2004.
Bryant L. VanBrakle,
Secretary.

[FR Doc. 04-18949 Filed 8-18-04; 8:45 am]

BILLING CODE 6730-01-P